DEPARTMENT OF VETERANS AFFAIRS

[OMB Control No. 2900-0086]

Agency Information Collection Activity: Request for a Certificate of Eligibility

AGENCY: Veterans Benefits Administration, Department of Veterans Affairs.

ACTION: Notice.

SUMMARY: Veterans Benefits Administration, Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Written comments and recommendations on the proposed collection of information should be received on or before September 23, 2025.

ADDRESSES: Comments must be submitted through www.regulations.gov.

FOR FURTHER INFORMATION CONTACT: Program-Specific information: Kendra McCleave, 202-461-9760, Kendra.Mccleave@va.gov.

VA PRA information: Dorothy Glasgow, 202-461-1084, VAPRA@va.gov.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, insert admin acronym (example: VBA) invites comments on: (1) whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology. The revision due to a decrease in the burden hours from the previous submissions.

Title: Request for a Certificate of Eligibility.

OMB Control Number: 2900-0086. https://www.reginfo.gov/public/do/PRASearch (Once at this link, you can enter the OMB Control Number to find the historical versions of this Information Collection).

Type of Review: Revision of a currently approved collection.

Abstract: VA Form 26-1880 is used by VA to determine an applicant's eligibility for Loan Guaranty benefits, and the amount of entitlement available. This form is also used in restoration of entitlement cases. The buyer must also meet the occupancy and income and credit requirements of the law. The restoration of an entitlements is not automatic; an applicant must apply for it by completing VA Form 26-1880. The Secretary is required by 38 U.S.C. 3702 (a), (b), and (c) to determine the applicant's eligibility for Loan Guaranty benefits, compute the amount of entitlement, and document the certificate with the amount and type of guaranty used and the amount, if any, remaining. In addition, adjustments were made to the burden hours from the previous submission, due to a decrease in the applications and the removal of the electronic COE requests that are automatically issued that do not require the completion or collection of VA Form 26-1880. The reduction in applications is attributed to the amount of electronic service documentation available and market conditions that has led to a small decrease in benefit usage.

Affected Public: Individuals and households.

Estimated Annual Burden: 90,625 hours.

Estimated Average Burden per Respondent: 15 minutes.

Frequency of Response: 1 Time per loan.

Estimated Number of Respondents: 362,500 annually.

Authority: 44 U.S.C. 3501 et seq.

Dorothy Glasgow,
Acting, VA PRA Clearance Officer, Office of Enterprise and Integration/Data Governance Analytics, Department of Veterans Affairs.

[FR Doc. 2025-14102 Filed 7-24-25; 8:45 am]

BILLING CODE 8320-01-P